DEPARTMENT OF COMMERCE

National Oceanic and Atmospheric Administration

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its Guam Mariana Archipelago Fishery Ecosystem Plan (FEP) Advisory Panel (AP) and Commonwealth of the Northern Mariana Islands (CNMI) Mariana Archipelago FEP AP Advisory Panel to discuss and make recommendations on fishery management issues in the Western Pacific Region.

DATES: The Guam Mariana Archipelago FEP AP will meet on Thursday, January 28, 2015, between 6:30 p.m. and 9 p.m. and the CNMI Mariana Archipelago FEP AP will meet on Friday, January 29, 2015, between 6 p.m. and 9 p.m. All times listed are local island times. For specific times and agendas, see SUPPLEMENTARY INFORMATION.

ADDRESSES: The Guam Mariana Archipelago FEP AP will meet at the Hilton Guam Resort and Spa, 202 Hilton Road, Tumon Bay, Guam, 96913. The CNMI Mariana Archipelago FEP AP will meet at the Fiesta Resort and Spa Saipan, Saipan Beach Road, Garapan, Saipan, CNMI, 96950.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the Guam Mariana Archipelago FEP AP Meeting

Thursday, January 28, 2016, 6:30 p.m.-9 p.m.

1. Hafa Adai—Welcome and Introductions

2. Outstanding Council Action Items

3. Council Issues

A. Council Program Review

B. Pelagics Quota Transfer Information

C. FEP Review

D. Grant Opportunities

4. Council Projects in the Marianas

A. Coral Reef Projects

i. Stock Assessments Projects

ii. Resource Mapping Projects

B. Data Collection Projects

i. Marine Recreational Information Program (MRIP)

ii. Territorial Science Initiative (TSI)

C. Community-based Projects

i. Malesso Village Plan

ii. Yigo Village Workshop

5. Mariana FEP Community Activities

A. Guam FEP Community Calendar

B. Guam AP Outreach Plan

6. Marianas FEP AP-Guam Issues

A. Report of the Subpanels

i. Island Fisheries Subpanel

ii. Pelagic Fisheries Subpanel

iii. Ecosystems and Habitat Subpanel

iv. Indigenous Fishing Rights Subpanel

B. Other Issues

7. Public Comment

8. Discussion and Recommendations

9. “At the End of the Day”—Other Business

Schedule and Agenda for the CNMI Mariana Archipelago FEP AP Meeting

Friday, January 29, 2016, 6 p.m.-9 p.m.

1. Welcome and Introductions

2. Outstanding Council Action Items

3. Council Issues

A. Council Program Review

B. Pelagics Quota Transfer Information

C. FEP Review

D. Grant Opportunities

4. Council Projects in the Marianas

A. Coral Reef Projects

i. Stock Assessments Projects

ii. Resource Mapping Projects

B. Data Collection Projects

i. MRIP

ii. TSI

C. Community-based Projects

i. Northern Islands Village Workshop

ii. Fishery Development

5. Mariana FEP Community Activities

6. Marianas FEP AP-CNMI Issues

A. Report of the Subpanels

i. Island Fisheries Subpanel

ii. Pelagic Fisheries Subpanel

iii. Ecosystems and Habitat Subpanel

iv. Indigenous Fishing Rights Subpanel

B. Other Issues

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 7, 2016.
Tracey L. Thompson,
Acting Deputy Director, Office of Sustainable Fisheries, National Marine Fisheries Service.

[FR Doc. 2016-00368 Filed 1-11-16; 8:45 am]

BILLING CODE 3510-22-P